DEPARTMENT OF THE INTERIOR

Bureau of Land Management

[A2407-014-004-065516; #O2412-014-004-047181.1]

Call for Nominations and Comments for the 2025 National Petroleum Reserve in Alaska Oil and Gas Lease Sale

AGENCY: Bureau of Land Management, Interior.

ACTION: Notice.

SUMMARY: The Bureau of Land Management (BLM) Alaska State Office is issuing a call for nominations and comments on all available unleased tracts for the upcoming National Petroleum Reserve—Alaska (NPR-A) 2025 Oil and Gas Lease Sale. This is a standard step in the leasing process as BLM prepares to hold the first NPR-A lease sale since 2019 and the first lease sale under direction in the One Big Beautiful Bill Act. This action also advances priorities in the Executive Order, Unleashing Alaska's Extraordinary Resource Potential, and the associated Secretary's Order of the same name.

DATES: BLM Alaska must receive all nominations and comments on these tracts for consideration on or before November 21, 2025.

ADDRESSES: Nominations and/or comments should be mailed or emailed to: State Director, Bureau of Land Management, Alaska State Office, 222 West 7th Avenue, #13, Anchorage, AK 99513-7504; Email: BLM_AKSO_AK932_AKLeasesales@blm.gov.

FOR FURTHER INFORMATION CONTACT: Wayne Svejnoha, BLM Alaska Energy and Minerals Branch Chief, Alaska State Office, 222 West 7th Avenue, #13, Anchorage, AK 99513; telephone 907-271-4407.

Individuals in the United States who are deaf, deafblind, hard of hearing, or have a speech disability may dial 711 (TTY, TDD, or TeleBraille) to access telecommunications relay services for contacting Mr. Wright. Individuals outside the United States should use the relay services offered within their country to make international calls to the point-of-contact in the United States.

SUPPLEMENTARY INFORMATION: Pursuant to 43 CFR 3131.2, the BLM is issuing this call for nominations and comments for the upcoming NPR-A Oil and Gas Lease Sale on all available tracts in the areas designated for oil and gas leasing in the December 2020 NPR-A Integrated Activity Plan Record of Decision. This effort implements direction from Section 50105 of Public Law 119-21, the One Big Beautiful Bill Act, which the President signed into law on July 4, 2025. This action also advances priorities in Executive Order 14153, Unleashing Alaska's Extraordinary Resource Potential, and the associated Secretary's Order 3422.

To identify tracts to nominate for leasing, or to provide comments, please follow instructions found on the BLM Alaska website at: https://www.blm.gov/programs/energy-and-minerals/oil-and-gas/leasing/regional-lease-sales/alaska.

The BLM also requests comments on tracts that should receive “special concern and analysis” (43 CFR 3131.2).

Before including your address, phone number, email address, or other personal identifying information in your nominations and/or comments, you should be aware that your entire comment—including your personal identifying information—may be made publicly available at any time. While you can ask us in your comment to withhold your personal identifying information from public review, we cannot guarantee that we will be able to do so.

Kevin J. Pendergast,
State Director, Alaska.

[FR Doc. 2025-19624 Filed 10-21-25; 8:45 am]

BILLING CODE 4331-10-P